DEPARTMENT OF DEFENSE

Department of the Air Force

U.S. Air Force Scientific Advisory Board; Notice of Meeting

AGENCY: Department of the Air Force, U.S. Air Force Scientific Advisory Board.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place 24 June 2014 at the Secretary of the Air Force Technical and Analytical Support Conference Center, 1550 Crystal Drive, Arlington, VA 22202. The meeting will be from 7:45 a.m.-5:00 p.m. on Tuesday, 24 June 2014, with the sessions from 7:45 a.m.-10:45 a.m. open to the public.

The purpose of this Air Force Scientific Advisory Board quarterly meeting is to discuss and deliberate on the findings and recommendations of the FY14 SAB studies addressing scientific and technical challenges with combating sexual assault in the Air Force; nuclear command, control & communications in the cyber age; technology readiness for hypersonic vehicles; and defending forward Air Force bases. Potential FY15 SAB study topics will also be discussed.

In accordance with 5 U.S.C. 552b, as amended, and 41 CFR 102-3.155, some sessions of the United States Air Force Scientific Advisory Board meeting will be closed to the public because they will discuss information and matters covered by section 5 U.S.C. 552b(c) (1).

Any member of the public wishing to attend or provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

Henry Williams,
Acting Air Force Federal Register Liaison Officer.

[FR Doc. 2014-12856 Filed 6-3-14; 8:45 am]

BILLING CODE 5001-10-P